DEPARTMENT OF THE TREASURY

Submission for OMB Review; Comment Request

December 18, 2014.

The Department of the Treasury will submit the following information collection request to the Office of Management and Budget (OMB) for review and clearance in accordance with the Paperwork Reduction Act of 1995, Public Law 104-13, on or after the date of publication of this notice.

DATES: Comments should be received on or before January 23, 2015 to be assured of consideration.

ADDRESSES: Send comments regarding the burden estimate, or any other aspect of the information collection, including suggestions for reducing the burden, to (1) Office of Information and Regulatory Affairs, Office of Management and Budget, Attention: Desk Officer for Treasury, New Executive Office Building, Room 10235, Washington, DC 20503, or email at OIRA_Submission@OMB.EOP.gov and (2) Treasury PRA Clearance Officer, 1750 Pennsylvania Ave. NW., Suite 8141, Washington, DC 20220, or email at PRA@treasury.gov.

FOR FURTHER INFORMATION CONTACT: Copies of the submission may be obtained by emailing PRA@treasury.gov, calling (202) 622-1295, or viewing the entire information collection request at www.reginfo.gov.

Community Development Financial Institutions (CDFI) Fund

OMB Number: 1559-0028.

Type of Review: Revision of a currently approved collection.

Title: The Community Development Financial Institutions Program—Certification Application.

Form: CDFI Form 0005.

Abstract: The certification application will be used to determine whether an entity seeking CDFI certification or recertification meets the Fund's requirements for such certification as set forth in 12 CFR 1805.201.

Affected Public: Private Sector: Not-for-profit institutions; State, Local, and Tribal Governments.

Estimated Annual Burden Hours: 6,563.

Dawn D. Wolfgang,
Treasury PRA Clearance Officer.

[FR Doc. 2014-30097 Filed 12-23-14; 8:45 am]

BILLING CODE 4810-70-P